FEDERAL COMMUNICATIONS COMMISSION

47 CFR Part 73

[MB Docket No. 87-268; FCC 07-138]

Advanced Television Systems and Their Impact Upon the Existing Broadcast Service

AGENCY: Federal Communications Commission.

ACTION: Proposed rule; correction.

SUMMARY: This document corrects the Ordering Clauses to a proposed rule published in the Federal Register on September 10, 2007 concerning a request for comments on proposed changes to the final digital television (DTV) Table of Allotments. Paragraphs 41 and 42 were inadvertently included in the ordering clauses and will be removed.

FOR FURTHER INFORMATION CONTACT: For additional information on this proceeding, contact Kim Matthews of the Media Bureau, Policy Division, (202) 418-2120.

Correction

In the Federal Register of September 10, 2007, in 72 FR 51575, on page 51580, make the following correction in the SUPPLEMENTARY INFORMATION section. On page 51580, remove the paragraphs numbered 41 and 42.

Federal Communications Commission.
Marlene H. Dortch,
Secretary.

[FR Doc. E7-18245 Filed 9-25-07; 8:45 am]

BILLING CODE 6712-01-P